DEPARTMENT OF THE INTERIOR

Bureau of Land Management

[19X.LLES964000.L14400000.FR0000; FLES-58597]

Public Land Order No. 7882; Extension of Public Land Order No. 5683, Pelican Island National Wildlife Refuge; Florida

AGENCY: Bureau of Land Management, Interior.

ACTION: Public Land Order.

SUMMARY: This Public Land Order (PLO) extends the duration of the withdrawal established by PLO No. 5683 for an additional 40-year term, which would otherwise expire on September 11, 2019. This extension is necessary to preserve unique features and facilitate management between the existing refuge and adjacent privately-held lands. PLO No. 5683 withdrew 37.50 acres of public land from settlement, sale, location, or entry under the general land laws, including the mining laws, but not from leasing under the mineral leasing laws for 40 years. PLO No. 5683 reserved the lands under the jurisdiction of the Department of the Interior as part of the Pelican Island National Wildlife Refuge, administered by the United States Fish and Wildlife Service (USFWS).

DATES: This PLO takes effect on September 11, 2019.

FOR FURTHER INFORMATION CONTACT: Victoria Craft, Realty Specialist, Bureau of Land Management Southeastern States District Office, 273 Market Street, Flowood, MS 39232 or by emailed at: vcraft@blm.gov. Persons who use a telecommunications device for the deaf (TDD) may call the Federal Relay Service (FRS) at 1-800-877-8339 to contact the above individual. The FRS is available 24 hours a day, 7 days a week, to leave a message or question with the above individual. You will receive a reply during normal business hours.

SUPPLEMENTARY INFORMATION: The lands withdrawn under PLO No. 5683 continue to be used for the purpose for which the original withdrawal was established. Unless extended, PLO No. 5683 will expire on September 11, 2019.

Order

By virtue of the authority vested in the Secretary of the Interior by Section 204 of the Federal Land Policy and Management Act of 1976, 43 U.S.C. 1714, it is ordered as follows:

1. Subject to valid existing rights, PLO No 5683, (44 FR 53084, (1979)), which withdrew public lands from settlement, sale, location, or entry under the general land laws, including the United States mining laws, but not from leasing under the mineral leasing laws, and reserved those lands as part of the Pelican Island National Wildlife Refuge, is hereby extended for an additional 40-year period to continue to provide an upland buffer zone.

2. The withdrawal extended by this Order will expire on September 11, 2059, unless as a result of review conducted prior to the expiration date pursuant to Section 204(f) of the Federal Land Policy and Management Act of 1976, 43 U.S.C. 1714(f), the Secretary determines the withdrawal shall be further extended.

Dated: August 30, 2019.
Joseph R. Balash,
Assistant Secretary—Land and Minerals Management.

[FR Doc. 2019-19515 Filed 9-9-19; 8:45 am]

BILLING CODE 4332-90-P